Proclamation 10828 of September 30, 2024

National Youth Substance Use Prevention Month, 2024

By the President of the United States of America

A Proclamation

America's young people are the future of our Nation. Each of them deserves the opportunity to thrive and reach their full potential. This National Youth Substance Use Prevention Month, we recommit to providing all youth with the resources and support they need to lead healthy lives and achieve their dreams.

Addressing the opioid and overdose epidemic is a key priority of my Unity Agenda. Preventing substance use before it starts is a crucial part of a comprehensive approach to addressing the overdose crisis.

That is why, as President, I am taking bold action to help schools, families, and communities to prevent youth substance use and improve the well-being of our Nation's youth. Through the Bipartisan Safer Communities Act, my Administration made the largest investment in youth mental health ever, including $1 billion of funding to train and hire new school based mental health professionals across the country. We are supporting substance use prevention training for school administrators and counselors and improving mental health and substance use screening tools so students can get the health services they need. We have also made it easier for schools to leverage Medicaid to deliver mental health and substance use care to millions of children and youth. And we are engaging youth as partners to develop and strengthen community strategies for youth to better educate and support their peers, working toward our shared goal of getting ahead of substance use before it starts.

Over the past 3 years, we have made historic investments in strengthening local youth prevention and public awareness campaigns across the country. Through our Drug-Free Communities Support Program, we are implementing prevention efforts in all 50 States, significantly reducing youth substance use in these communities. Further, my Administration launched a social media campaign to educate youth on the dangers of fentanyl and the life-saving effects of opioid overdose reversal medications. We also used this prevention content to prepare classroom resources for middle and high school students. Together, we are emboldening our Nation's youth with the knowledge and tools they need to make informed and empowered decisions.

We are also taking aggressive action to reduce the supply of illicit drugs before they hit our streets. Under my leadership, Federal law enforcement is keeping more deadly drugs out of our communities than ever before by stopping illicit fentanyl at ports of entry, prosecuting thousands of drug traffickers, sanctioning individuals and organizations involved in the global illicit drug trade, and engaging globally to disrupt drug trafficking organizations.

We have made immense progress in preventing the use and misuse of substances and preventing youth from developing substance use disorders. We are mobilizing communities to take action and stay informed, providing historic amounts of funding to prevent substance use and overdose, and focusing on what works—evidence-based policies, strategies, and programs. Together with youth, parents, mentors, and leaders from all sectors of communities around our great Nation, we are working to ensure every young person is nurtured in a safe, supportive, thriving environment. But to improve the lives of youth impacted by substance use and honor all the young lives tragically lost to an overdose, we can and must do more. This month, we recommit to fulfilling our Nation's duty to leave no one behind and extend support to those who need it. America's youth deserve nothing less than our unwavering commitment to their well-being.

If you are struggling with substance use or just need someone to talk to, speak to a loved one or health care provider, contact the Substance Abuse and Mental Health Services Administration's National Helpline at 1-800-662-HELP or visit FindSupport.gov. If you or someone you love is experiencing a mental health or substance use crisis, you can call or text 988, or visit 988lifeline.org for free, confidential crisis support.

NOW, THEREFORE, I, JOSEPH R. BIDEN JR., President of the United States of America, by virtue of the authority vested in me by the Constitution and the laws of the United States, do hereby proclaim October 2024 as National Youth Substance Use Prevention Month. Let us all take action to implement practice- and evidence-based prevention strategies and improve the health of our Nation.

IN WITNESS WHEREOF, I have hereunto set my hand this thirtieth day of September, in the year of our Lord two thousand twenty-four, and of the Independence of the United States of America the two hundred and forty-ninth.

[FR Doc. 2024-23002

Filed 10-2-24; 8:45 am]

Billing code 3395-F4-P